FEDERAL COMMUNICATIONS COMMISSION

Notice of Public Information Collection(s) Being Reviewed by the Federal Communications Commission for Extension Under Delegated Authority

December 29, 2003.

SUMMARY: The Federal Communications Commission, as part of its continuing effort to reduce paperwork burden invites the general public and other Federal agencies to take this opportunity to comment on the following information collection(s), as required by the Paperwork Reduction Act (PRA) of 1995, Pub. L. 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility and clarity of the information collected; and (d) ways to minimize the burden of the collection of information on the respondents, including the use of automated collection techniques or other forms of information technology.

DATES: Written Paperwork Reduction (PRA) comments should be submitted on or before March 15, 2004. If you anticipate that you will be submitting comments, but find it difficult to do so within the period of time allowed by this notice, you should advise the contact listed below as soon as possible.

ADDRESSES: Direct all Paperwork Reduction Act (PRA) comments to Les Smith, Federal Communications Commission, Room 1-A804, 445 12th Street, SW., Washington, DC 20554 or via the Internet to Leslie.Smith@fcc.gov.

FOR FURTHER INFORMATION CONTACT: For additional information or copies of the information collection(s), contact Les Smith at 202-418-0217 or via the Internet at Leslie.Smith@fcc.gov.

SUPPLEMENTARY INFORMATION: OMB Control Number 3060-0187.

Title: Section 73.3594, Local public notice of designation for hearing.

Form Number: N/A.

Type of Review: Extension of currently approved collection.

Respondents: Business or other for-profit entities.

Number of Respondents: 1.

Estimated Hours per Response: 2 hours.

Frequency of Response: On occasion reporting requirements.

Total Annual Burden: 2 hours.

Total Annual Costs: $1,450.

Needs and Uses: 47 CFR Section 73.3594 requires that applicants of any AM, FM, or TV broadcast station designated for hearing must give notice of such designation. 47 CFR Section 73.3594(a) requires that this notice must be published twice a week for two consecutive weeks in a general circulation daily newspaper in the community in which the station is or will be located. 47 CFR Section 73.3594(b) requires applicants for modification, assignment, transfer or renewal of an operating broadcast station to give notice over the broadcast station in addition to publishing the notice in a daily newspaper. 47 CFR Section 73.3594(g) requires that applicant file a statement with the FCC setting forth information regarding the publication or broadcast. This notice gives interested parties an opportunity to respond.

OMB Control Number: 3060-0190.

Title: Section 73.3544, Application to Obtain a Modified Station License.

Form Number: N/A.

Type of Review: Extension of currently approved collection.

Respondents: Business or other for-profit entities; not-for-profit institutions.

Number of Respondents: 325.

Estimated Time per Response: 0.25—2 hours.

Frequency of Response: On occasion reporting requirements.

Total Annual Burden: 306 hours.

Total Annual Costs: $45,000.

Needs and Uses: 47 CFR Section 73.3544(b) sets forth the filing procedures for broadcast licensees to obtain a modified station license when prior authority is not required to make changes to the station. Licensees are required to notify the FCC in writing when there is a change in the name of the licensee where there is no change in ownership or control. An informal application (written request) may be filed by licensees: (1) Correcting the routing instructions to and description of an AM station directional antenna system field monitoring point, when that point is not changed; (2) changing the type of AM station directional antenna monitor; (3) changing the location of the station main studio; or (4) changing the location of a remote control point of an AM or FM station. TV or FM licensees changing the type of transmitting antenna or output power of their transmitter must file the appropriate license application form (FCC Form 302-FM/302-TV, 3060-0506/0029) with the FCC. 47 CFR Section 73.3544(c) allows licensees to provide written notification when a change in the name of the licensee occurs where no change in ownership or control is involved.

Federal Communications Commission.
Marlene H. Dortch,
Secretary.

[FR Doc. 04-663 Filed 1-12-04; 8:45 am]

BILLING CODE 6712-01-P